DEPARTMENT OF ENERGY

Office of Energy Efficiency and Renewable Energy

Energy Conservation Program: Proposed Information Collection

AGENCY: Office of Energy Efficiency and Renewable Energy, Department of Energy.

ACTION: Notice and request for comments.

SUMMARY: The Department of Energy (DOE) invites public comment on a proposed collection of information that DOE is developing for submission to the Office of Management and Budget (OMB) pursuant to the Paperwork Reduction Act of 1995. The proposed collection of information is in a final rule pertaining to test procedures for distribution transformers that DOE is publishing in the “Rules” section of today's Federal Register.

DATES: Consideration will be given to comments submitted by June 26, 2006.

ADDRESSES: Written comments may be submitted to: Department of Energy, Attn: Cyrus Nasseri, Office of Energy Efficiency and Renewable Energy (EE-2J), Forrestal Building, 1000 Independence Ave., SW., Washington, DC 20585. (202) 586-9138, E-mail: cyrus.nasseri@ee.doe.gov.

SUPPLEMENTARY INFORMATION: Collection title: Test Procedures for Distribution Transformers.

Type of review: New collection.

OMB number: None.

Type of respondents: Manufacturers of low-voltage dry-type distribution transformers.

Estimated number of respondents: 57 companies.

Estimated total burden hours: 96 hours total per company per year; based on 56 hours of technician/technical work and 40 hours clerical work.

Frequency of recordkeeping or reporting: Recordkeeping: maintenance of (1) data and (2) calibration procedures and actions.

Abstract: DOE today is publishing a final rule that establishes test procedures for measuring the energy efficiency of distribution transformers, pursuant to sections 323(b)(10) and 346(a)(1) of the Energy Policy and Conservation Act. (42 U.S.C. 6293(b)(10) and 6317(a)(1)) (See “Rules” section of this issue of the Federal Register.) That rule contains the following recordkeeping requirements that must be approved by OMB pursuant to the Paperwork Reduction Act of 1995 (44 U.S.C. 3501 et. seq.) before manufacturers can be required to comply with them: (1) Section 431.197(a)(4)(i) would require manufacturers of distribution transformers to have records as to alternative efficiency determination methods available for DOE inspection; (2) section 6.2(f) of Appendix A to subpart K of Part 431 would require maintenance of calibration records; and (3) section 6.2(b) and (c) of Appendix A would require documentation of calibration procedures.

Request for Comments: Pursuant to 44 U.S.C. 3506(c)(2)(A), DOE invites comment on: (1) Whether the recordkeeping requirements in DOE's final rule are necessary; (2) the accuracy of DOE's estimate of the burden of the proposed information collection; (3) ways to enhance the quality, utility, and clarity of the information to be collected; and (4) ways to minimize the burden of the collection of information on those who choose to respond. Additional information about DOE's proposed information collection may be obtained from the contact person named in this notice.

Issued in Washington, DC, on March 28, 2006.
Douglas L. Faulkner,
Acting Assistant Secretary, Energy Efficiency and Renewable Energy.

[FR Doc. 06-3164 Filed 4-26-06; 8:45 am]

BILLING CODE 6450-01-P